DEPARTMENT OF STATE

[Public Notice: 11461]

Report to Congress Pursuant to Section 353(d)(1)(A) of the United States—Northern Triangle Enhanced Engagement Act

ACTION: Notice of report.

SUMMARY: This document outlines the State Department's report to Congress regarding foreign persons who have knowingly engaged in actions that undermine democratic processes or institutions, significant corruption, or obstruction of such corruption in El Salvador, Guatemala, and Honduras pursuant to Section 353(b) of the Department of State, Foreign Operations, and Related Programs Appropriations Act, 2021.

SUPPLEMENTARY INFORMATION:

Report to Congress on Foreign Persons Who Have Knowingly Engaged in Actions That Undermine Democratic Processes or Institutions, Significant Corruption, or Obstruction of Such Corruption in El Salvador, Guatemala, and Honduras Section 353(b) of the Department of State, Foreign Operations, and Related Programs Appropriations Act, 2021 (Div. FF, Pub. L. 116-260)

Consistent with Section 353(b) of the United States—Northern Triangle Enhanced Engagement Act (Subtitle F of title III of Div. FF, Pub. L. 116-260), this report is being submitted to the House Foreign Affairs Committee, Senate Foreign Relations Committee, House Committee on the Judiciary, and the Senate Committee on the Judiciary.

Consistent with the requirements of Section 353(b), this report identifies the following persons in El Salvador, Guatemala, and Honduras: (1) Foreign persons determined to have knowingly engaged in actions that undermine democratic processes or institutions; (2) foreign persons determined to have knowingly engaged in significant corruption; and (3) foreign persons determined to have knowingly engaged in obstruction of investigations into such acts of corruption, including the following: Corruption related to government contracts; bribery and extortion; the facilitation or transfer of the proceeds of corruption, including through money laundering; and acts of violence, harassment, or intimidation directed at governmental and nongovernmental corruption investigators.

Consistent with the requirements of Section 353, foreign persons listed in this report are generally ineligible for visas and admission to the United States. Foreign persons listed in this report shall have their visas revoked immediately and any other valid visa or entry documentation will be cancelled, absent an exception or national security interest waiver. Consistent with Section 353(g), this report will be published in the Federal Register.

The report includes individuals for whom the Department is aware of credible information or allegations of the conduct at issue, from media reporting and other sources. The Department will continue to review the individuals listed in the report and consider all available tools to deter and disrupt corrupt, undemocratic activity in El Salvador, Guatemala, and Honduras. The Department also continues to actively review additional credible information and allegations concerning corruption and to utilize all applicable authorities, as appropriate, to ensure corrupt officials are denied safe haven in the United States.

El Salvador

Walter René Araujo Morales, former member and president of the Supreme Electoral Tribunal, undermined democratic processes or institutions by calling for insurrection against the Legislative Assembly and repeatedly threatening political candidates.

Pablo Salvador Anliker Infante, former Minister of Agriculture, engaged in significant corruption by misappropriating public funds for his personal benefit.

Conan Tonathiu Castro Ramírez, current legal advisor to the president, undermined democratic processes or institutions by assisting in the inappropriate removal of five Supreme Court Magistrates and the Attorney General.

Óscar Rolando Castro, Minister of Labor, obstructed investigations into corruption and undermined democratic processes or institutions in efforts to damage his political opponents.

Osiris Luna Meza, Vice Minister of Security and Director of Prisons, has engaged in significant corruption related to government contracts and bribery during his term in office.

José Luis Merino, former vice minister for foreign investment and development financing, engaged in significant corruption during his term in office through bribery. He also participated in a money laundering scheme.

Ezequiel Milla Guerra, former mayor of La Union, engaged in significant corruption by abusing his authority as mayor in the sale of Perico Island to agents of the People's Republic of China in exchange for personal benefit.

José Aquiles Enrique Rais López engaged in significant corruption and undermined democratic processes or institutions by bribing public officials.

Martha Carolina Recinos de Bernal, current Chief of Cabinet, engaged in significant corruption by misusing public funds for personal benefit. She also participated in a significant money laundering scheme.

Carlos Armando Reyes Ramos, current member of the Legislative Assembly, obstructed investigations into corruption by inappropriately influencing the Supreme Court Magistrate selection process.

Othon Sigfrido Reyes Morales, former legislator from the FMLN party of El Salvador, engaged in significant corruption during his term in office through fraud and misuse of public funds.

Rogelio Eduardo Rivas Polanco, former minister of security and justice, engaged in significant corruption by misappropriating public funds for personal benefit.

Adolfo Salume Artinano, engaged in significant corruption and undermined democratic processes and institutions by bribing a Supreme Court Magistrate to avoid paying a fine.

Luis Guillermo Wellman Carpio, current Magistrate of Supreme Electoral Tribunal, undermined democratic processes or institutions by causing serious and unnecessary delays in election preparations and results tabulation for his personal benefit and allowing Chinese malign influence during the Salvadoran elections.

Guatemala

Gustavo Adolfo Alejos Cambara, former Guatemalan presidential chief of staff, engaged in significant corruption by facilitating payments to congressional representatives and judges on Guatemala's Supreme Court of Justice (CSJ) in order to inappropriately influence the judicial selection process for magistrates to the CSJ and Court of Appeals and secure his future release from prison and the dismissal of corruption charges. He is designated under the Global Magnitsky sanctions program and Section 7031(c) for involvement in significant corruption.

Felipe Alejos Lorenzana, former first secretary of the Guatemalan Congress, has engaged in significant corruption. While acting in his official capacity, Mr. Alejos was involved in corrupt acts to enrich himself, while also seriously harming U.S. businesses' international economic activity. He is designated under the Global Magnitsky sanctions program and Section 7031(c) for involvement in significant corruption.

Delia Bac Alvarado, former congressional representative, engaged in significant corruption through her misuse of public funds for personal benefit. She is designated under Section 7031(c) for involvement in significant corruption.

Florencio Carrascoza Gamez, current mayor of Joyabaj, undermined democratic processes or institutions by intimidating and unjustly imprisoning political opponents.

Alvaro Colom Caballeros, former president, engaged in significant corruption when he participated in fraud and embezzlement involving a new bus system in Guatemala City known as Transurbano.

Manuel Duarte Barrera, currently on the Supreme Court, has undermined democratic processes or institutions by abusing his authority to inappropriately influence and manipulate the appointment of judges to high court positions.

Boris Roberto Espana Caceres, current congressional representative in the Guatemalan Congress, engaged in significant corruption when he participated in influence peddling and bribery.

Mario Amilcar Estrada Orellana, former congressional representative, engaged in significant corruption and was sentenced by U.S. courts for seeking millions from Mexico's Sinaloa Cartel to finance political campaigns.

Raul Amilcar Falla Ovalle, a lawyer for the nongovernmental organization (NGO) Fundacion Contra el Terrorismo (Foundation Against Terrorism—FCT), attempted to delay or obstruct criminal proceedings against former military officials who had committed acts of violence, harassment, or intimidation against governmental and nongovernmental corruption investigators.

Moises Eduardo Galindo Ruiz, an attorney with the NGO FCT, attempted to delay or obstruct criminal proceedings against former military officials who had committed acts of violence, harassment, or intimidation against governmental and nongovernmental corruption investigators, as well as the work of the Special Prosecutor's Office Against Impunity (FECI).

Juan Carlos Godinez Rodriguez, lawyer and former member of a congressional commission in charge of selecting Supreme Court magistrates, undermined democratic processes or institutions by abusing his authority to inappropriately influence and manipulate the appointment of judges to high court positions.

Gustavo Adolfo Herrera Castillo, political operative and businessman, undermined democratic processes or institutions by abusing his authority to inappropriately influence and manipulate the appointment of judges to high court positions.

Ricardo Rafael Mendez Ruiz Valdez, the founder and legal representative of the NGO FCT, attempted to delay or obstruct criminal proceedings against former military officials who had committed acts of violence, harassment, or intimidation against governmental and nongovernmental corruption investigators.

Mynor Mauricio Moto Morataya, selected in January 2021 to fill a vacant seat on the country's Constitutional Court, undermined processes or institutions and engaged in significant corruption when he obstructed justice and received bribes in return for a favorable legal decision.

Alejandro Jorge Sinbaldi Aparicio, former minister of communications, infrastructure, and housing, engaged in significant corruption when he participated in bribery and illegal electoral financing, and the laundering of the proceeds of corruption for personal gain. He is designated under Section 7031(c) for involvement in significant corruption.

Guillermo Estuardo de Jesus Sosa Rodriguez, former vice minister of communications, engaged in significant corruption when he participated in bribery schemes, including involvement in a criminal structure that pressured, collected, and deposited bribes from state contractors in exchange for personal benefits.

Blanca Aida Stalling Davila, former Supreme Court Justice, engaged in significant corruption by participating in bribery schemes and inappropriately influencing the judicial branch. She is designated under Section 7031(c) for involvement in significant corruption.

Elder de Jesús Súchite Vargas, former minister of culture, engaged in significant corruption related to government contracts and influence peddling for personal gain.

Jorge Estuardo Vargas Morales, current congressional representative, engaged in significant corruption and undermined democratic processes or institutions when he engaged in bribery, coercion, and influence peddling.

Nester Mauricio Vasquez Pimentel, currently on the Supreme Court, has undermined democratic processes or institutions by abusing his authority to inappropriately influence and manipulate the appointment of judges to high court positions.

Honduras

Gustavo Alberto Perez, current congressional representative, has engaged in significant corruption. He was indicted in the Arca Abierta MACCIH-investigated corruption case for embezzling $800,000 from various government agencies.

Marco Antonio Bogran Corrales, former director of INVEST-H, engaged in significant corruption by misappropriating public funds during the COVID-19 pandemic.

Rosa Elena Bonilla de Lobo, former first lady, engaged in significant corruption through fraud and misappropriation of public funds.

Augusto Domingo Cruz Asensio, former member of congress, engaged in significant corruption by misappropriating funds from the public Generacion employment program to personal accounts.

Jose Celin Discua Elvir, current congressional representative, engaged in significant corruption when he misappropriated funds from the Secretariat of Agriculture to political campaigns.

Rodolfo Irias Navas, current congressional representative, engaged in significant corruption when he misappropriated funds from the Secretariat of Agriculture to political campaigns.

Eleazar Alexander Juarez Sarabia, former member of congress, engaged in significant corruption by misappropriating funds from a public pest control program in his home department of Valle to his personal accounts.

Jose Porfirio “Pepe” Lobo Sosa, former president of Honduras, engaged in significant corruption while president when he accepted bribes from the narco-trafficking organization Los Cachiros in exchange for political favors.

Gladys Aurora Lopez, member of the Honduran National Congress Executive Board, engaged in significant corruption. He was indicted in the Arca Abierta MACCIH-investigated corruption case for embezzling $800,000 from various government agencies.

Miguel Edgardo Martinez Pineda, current congressional representative engaged in significant corruption. He was indicted in the Pandora MACCIH corruption case in June 2018 for misappropriating $12.5 million in public funds from the Secretariat of Agriculture to political campaigns for personal gain.

Sara Ismela Medina Galo, member of congress, obstructed investigations into corruption in her role as Secretary of Congress.

Oscar Najera, current congressional representative, engaged in significant corruption related to the Cachiros narcotrafficking organization. He was designated under Section 7031(c) for involvement in significant corruption.

Hector Enrique Padilla Hernandez, former member of congress, engaged in significant corruption by misappropriating funds from the publicly funded Limpieza de Solares y Calles development project in his home department of Choluteca to his personal accounts.

Milton Jesus Puerto Oseguera, current congressional representative, engaged in significant corruption. He was indicted in the Arca Abierta MACCIH-investigated corruption case for embezzling $800,000 from various government agencies.

Audelia Rodriguez Rodrigo, current member of congress, engaged in significant corruption by misappropriating funds from the publicly funded Limpieza de Solares y Calles development project to her personal accounts.

Dennys Antonio Sanchez Fernandez, current member of congress, engaged in significant corruption by misappropriating funds from a public pest control program in his home department of Santa Barbara to his personal accounts.

Elvin Ernesto Santo Ordonez, current congressional representative, engaged in significant corruption when he misappropriated funds from the Secretariat of Agriculture to political campaigns.

Juan Carlos Valenzuela Molina, current congressional representative. He was indicted in the Arca Abierta MACCIH-investigated corruption case for embezzling $800,000 from various government agencies.

Elden Vasquez, current congressional representative, engaged in significant corruption through the misappropriation of $12.5 million from the Secretariat of Agriculture to political campaigns for his personal gain. He was indicted in the Pandora MACCIH-investigated corruption case in June 2018.

Welsy Milena Vasquez Lopez, current congressional representative, engaged in significant corruption including embezzlement and misappropriation of public funds for personal gain. He was indicted in the Arca Abierta MACCIH-investigated corruption case for embezzling $800,000 from various government agencies.

Roman Villeda Aguilar, member of congress, obstructed investigations into corruption, which resulted in the dismissal of an embezzlement case against several congressman who were under investigation for redirecting money to a fake NGO.

Dated: June 30, 2021.
Brian P. McKeon,
Deputy Secretary of State for Management and Resources.

[FR Doc. 2021-14515 Filed 7-7-21; 8:45 am]

BILLING CODE 4710-29-P